CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its proposed renewal of its Financial Management Survey (FMS) form. The FMS is a tool used by Corporation staff to assess the financial management capabilities of applicants for Corporation funding.

Copies of the information collection requests can be obtained by contacting the individual listed in the For Further Information Contact section of this notice.

DATES: Written comments must be submitted to the office listed in the ADDRESSES section December 31, 2007.

ADDRESSES: You may submit comments, identified by the title of the information collection activity, by any of the following methods:

(1) By mail sent to: Corporation for National and Community Service, Office of Grants Management; Attention Stacy Bishop, Senior Grants Officer; 1201 New York Avenue, NW., Room 8100; Washington, DC 20525.

(2) By hand delivery or by courier to the Corporation's mailroom at Room 8100, at the mail address given in paragraph (1) above, between 9 a.m. and 4 p.m. Monday through Friday, except Federal holidays.

(3) By fax to: (202) 606-3485, Attention Stacy Bishop, Senior Grants Officer.

(4) Electronically through the Corporation's e-mail address system: sbishop@cns.gov.

FOR FURTHER INFORMATION CONTACT: Stacy Bishop, 202-606-6962, or by e-mail at sbishop@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation developed the Financial Management Survey to implement its pre-award policy (CFO-029, effective 1/17/02) which provides reasonable assurance that federal grant funds will be expended and accounted for in ways that meet program objectives, the award terms and conditions, and applicable federal statutes, regulations and guidelines. The Financial Management Survey standardizes the pre-award process and ensures uniform consideration of the capacity of prospective grantees of the Corporation to manage federal funds.

The Financial Management Survey will be used for the following purposes:

(1) As a pre-award assessment tool of the capacity of a potential grantee to manage federal funds in excess of $100,000; and

(2) As part of the basis for determining the financial management areas in which a prospective grantee, should it receive an award from the Corporation, may warrant technical assistance.

Current Action

The Corporation seeks to renew and revise the current Financial Management Survey. The revised Financial Management Survey is more user friendly, eliminates duplication in the survey, and clarifies questions to further allow Corporation staff to assess financial capabilities. The survey will otherwise be used in the same manner as the existing survey. The Corporation also seeks to continue using the current survey until the revised survey is approved by OMB. The current survey is due to expire on January 31, 2008.

Type of Review: Renewal with minor revisions.

Agency: Corporation for National and Community Service.

Title: Financial Management Survey Form.

OMB Number: 3045-0102.

Agency Number: None.

Affected Public: First-time grant applicants or current grantees recompeting for funding.

Total Respondents: 20 annually.

Frequency: One (1) time.

Average Time per Response: 1 hour.

Estimated Total Burden Hours: 20 hours annually.

Total Burden Cost (capital/startup): None.

Total Burden Cost (operating/maintenance): None.

Comments submitted in response to this notice will be summarized and/or included in the request for Office of Management and Budget approval of the information collection request; they will also become a matter of public record.

Dated: October 26, 2007.
Peg Rosenberry,
Director, Office of Grants Management .

[FR Doc. E7-21529 Filed 10-31-07; 8:45 am]

BILLING CODE 6050-$$-P